DEPARTMENT OF COMMERCE

National Oceanic and Atmospheric Administration

50 CFR Part 217

RIN 0648-BG50

Taking and Importing Marine Mammals; Taking Marine Mammals Incidental to Commercial Fireworks Displays at Monterey Bay National Marine Sanctuary; Correction

AGENCY: National Marine Fisheries Service (NMFS), National Oceanic and Atmospheric Administration (NOAA), Commerce.

ACTION: Final rule; correction.

SUMMARY: This document contains corrections to the DATES section and the preamble to the final regulations published on June 15, 2017, that establish a framework for authorizing the take of marine mammals incidental to the commercial fireworks displays in the Monterey Bay National Marine Sanctuary for a five-year period, 2017-2022. This action is necessary to correct an error in the effective dates of the final regulations.

DATES: Effective from June 29, 2017, through June 28, 2022.

FOR FURTHER INFORMATION CONTACT: Laura McCue, Office of Protected Resources, NMFS, (301) 427-8401.

SUPPLEMENTARY INFORMATION:

Background

NMFS published a final rule on June 15, 2017 (82 FR 27434) to establish a framework for authorizing the take of marine mammals incidental to the commercial fireworks displays at the Monterey Bay National Marine Sanctuary (Sanctuary) for a five-year period, 2017-2022. NMFS refers the reader to the June 15, 2017, Federal Register notice (82 FR 27434) for background information concerning the final regulations. The information in the notice of final rulemaking is not repeated here.

Need for Correction

As published, the DATES section, the preamble to the final regulations, and the regulatory text incorrectly specified the dates of validity for the regulations. We hereby correct those errors; the only changes are to the dates of validity for the regulations.

1. On page 27434, in the third column, the DATES section is corrected to read as follows:

DATES: Effective from June 29, 2017, through June 28, 2022.

2. On page 27434, in the third column, under the heading, “Purpose and Need for this Regulatory Action,” the last sentence is corrected to read as follows:

“The regulations implemented by this final rule are valid from June 29, 2017, through June 28, 2022.”

3. On page 27435, in the third column, under the heading, “Summary of Request,” the last sentence is corrected to read as follows:

“The instant regulations are valid for five years from June 29, 2017, through June 28, 2022.”

4. On page 27436, in the first column, under the heading, “”Dates and Duration,” the first sentence is corrected to read as follows:

“The specified activity may occur from July 1 through February 28, annually, for the effective period of the regulations (June 29, 2017 through June 28, 2022).”

5. On page 27442, in the first column, the next to the last sentence is corrected and the last sentence is removed. The corrected sentence reads as follows:

“Finally, the MBNMS has informed NMFS that it does not require 30 days to prepare for implementation of the regulations and requests that this final rule take effect on or before June 29, 2017.”

6. On page 27442, in the second column, § 217.12 is corrected to read as follows:

§ 217.12 [Corrected]

Regulations in this subpart are effective from June 29, 2017, through June 28, 2022.

Dated: June 20, 2017.
Samuel D. Rauch III,
Deputy Assistant Administrator for Regulatory Programs, National Marine Fisheries Service.

[FR Doc. 2017-13249 Filed 6-26-17; 8:45 am]

BILLING CODE 3510-22-P